EXPORT-IMPORT BANK OF THE UNITED STATES

[Public Notice 2015-0704]

Agency Information Collection Activities: Comment Request

AGENCY: Export-Import Bank of the United States.

ACTION: Submission for OMB review and comments request.

Form Title: EIB 92-36 Application for Issuing Bank Credit Limit (IBCL) Under Lender or Exporter-Held Policies.

SUMMARY: The Export-Import Bank of the United States (Ex-Im Bank) is requesting an emergency approval for form EIB 92-36, Application for Issuing Bank Credit Limit (IBCL) Under Lender or Exporter-Held Policies, in order to enhance the identification and classification of small businesses, as well as minority-, woman-, and veteran-owned businesses. The Bank will subsequently proceed with the regular authorization request for this form as required by the Paperwork Reduction Act of 1995.

This collection of information is necessary, pursuant to 12 U.S.C. Sec. 635(a)(1), to determine eligibility of the applicant for Ex-Im Bank assistance.

The Export-Import Bank has made a change to the report to have the financial institution provide specific information (industry code, number of employees and annual sales volume) needed to make a determination as to whether or not the exporter meets the SBA's definition of a small business. The financial institution already provides the exporter's name and address. These additional pieces of information will allow Ex-Im Bank to better track the extent to which its support assists U.S. small businesses.

The other change that Ex-Im Bank has made is to require the financial institution to indicate whether the exporter is a minority-owned business, women-owned business and/or veteran-owned business. Although answers to the questions are mandatory, the company may choose any one of the three answers: Yes/No/Decline to Answer. The option of “Decline to Answer” allows a company to consciously decline to answer the specific question should they not wish to provide that information.

The application tool can be reviewed at: http://www.exim.gov/pub/pending/eib92-36.pdf.

DATES: Comments must be received on or before March 9, 2015 to be assured of consideration.

ADDRESSES: Comments may be submitted electronically on www.regulations.gov or by mail to Michele Kuester, Export-Import Bank of the United States, 811 Vermont Ave. NW., Washington, DC 20571.

SUPPLEMENTARY INFORMATION: Title and Form Number: EIB 92-36 Application for Issuing Bank Credit Limit (IBCL) Under Lender or Exporter-Held Policies.

OMB Number: 3048-0016.

Type of Review: Emergency.

Need and Use: This form is used by an insured exporter or lender (or broker acting on its behalf) in order to obtain approval for coverage of the repayment risk of an overseas bank. The information received allows Ex-Im Bank staff to make a determination of the creditworthiness of the foreign bank and the underlying export sale for Ex-Im Bank assistance under its programs.

Affected Public

This form affects entities involved in the export of U.S. goods and services.

Annual Number of Respondents: 480.

Estimated Time per Respondent: 1.2 hours.

Annual Burden Hours: 576 hours.

Frequency of Reporting of Use: As needed

Government Expenses

Reviewing time per year: 480 hours.

Average Wages per Hour: $42.50.

Average Cost per Year: $20,400.

(time*wages)

Benefits and Overhead: 20%.

Total Government Cost: $24,480.

Bonita Jones-McNeil,
Agency Clearance Officer, Office of the Chief Information Officer.

[FR Doc. 2015-04195 Filed 2-27-15; 8:45 am]

BILLING CODE 6690-01-P